DEPARTMENT OF HEALTH AND HUMAN SERVICES

National Institutes of Health

Center for Scientific Review; Amended Notice of Meeting

Notice is hereby given of a change in the meeting of the Brain Injury and Neurovascular Pathologies Study Section, December 18, 2025, 10:00 a.m. to December 19, 2025, 06:00 p.m., National Institutes of Health, Rockledge II, 6701 Rockledge Drive, Bethesda, MD 20892 which was published in the Federal Register on December 04, 2025, 90 FR 55875, Doc No. 205-

This meeting is being amended to change the meeting from a two day meeting to a one day meeting, 12/18/2025. The meeting is closed to the public.

Dated: December 18, 2025.
Bruce A. George,
Program Analyst, Office of Federal Advisory Committee Policy.

[FR Doc. 2025-23594 Filed 12-19-25; 8:45 am]

BILLING CODE 4140-01-P